DEPARTMENT OF COMMERCE

International Trade Administration

[A-201-830]

Carbon and Certain Alloy Steel Wire Rod From Mexico: Final Results and Partial Rescission of the Antidumping Duty Administrative Review; 2022-2023

AGENCY: Enforcement and Compliance, International Trade Administration, Department of Commerce.

SUMMARY: The U.S. Department of Commerce (Commerce) determines that producers/exporters subject to this review made sales of subject merchandise at less than normal value (NV) during the period of review (POR) October 1, 2022, through September 30, 2023.

DATES: Applicable August 4, 2025.

FOR FURTHER INFORMATION CONTACT: Laurel LaCivita or Matthew Palmer, AD/CVD Operations, Office III, Enforcement and Compliance, International Trade Administration, U.S. Department of Commerce, 1401 Constitution Avenue NW, Washington, DC 20230; telephone: (202) 482-2352 or (202) 482-1678, respectively.

SUPPLEMENTARY INFORMATION:

Background

On November 14, 2024, Commerce published the Preliminary Results for this administrative review in the Federal Register and invited interested parties to comment.¹ This review covers two mandatory respondents selected for individual examination, Deacero S.A.P.I de C.V. (Deacero) and TA 2000 S.A. de C.V. (TA 2000).

¹ See Carbon and Certain Alloy Steel Wire Rod from Mexico: Preliminary Results and Partial Rescission of the Antidumping Duty Administrative Review; 2022-2023, 89 FR 89952 (November 14, 2024) (Preliminary Results), and accompanying Preliminary Decision Memorandum (PDM).

On December 16, 2024, we received a case brief from Deacero,² and, subsequently, on December 23, 2024, we received a rebuttal brief from Nucor Corporation and Commercial Metal Company (collectively, Nucor/CMC).³

² See Deacero's Letter, “Case Brief,” dated December 16, 2024 (Deacero's Case Brief).

³ See Nucor/CMC's Letter, “Rebuttal Brief,” dated December 23, 2024 (Nucor/CMC's Rebuttal Brief).

On July 18, 2025, Commerce issued a post-preliminary analysis regarding changes to its differential pricing analysis and established a briefing schedule solely for arguments related to Commerce's new methodology.⁴ We did not receive any comments from interested parties.

⁴ See Memorandum, “Post-Preliminary Analysis for the Administrative Review of the Antidumping Duty Order on Carbon and Certain Alloy Steel Wire Rod from Mexico; 2022-2023,” dated July 18, 2025; see also Memorandum, “Briefing Schedule for Post-Preliminarily Determination,” dated July 21, 2025.

A complete summary of the events that occurred since publication of the Preliminary Results is found in the Issues and Decision Memorandum.⁵ Commerce conducted this review in accordance with section 751(a) of the Tariff Act of 1930, as amended (the Act).

⁵ See Memorandum, “Issues and Decision Memorandum for the Final Results of Antidumping Duty Administrative Review: Carbon and Certain Alloy Steel Wire Rod from Mexico; 2022-2023,” dated concurrently with, and hereby adopted by, this notice (Issues and Decision Memorandum).

Final Successor-in-Interest Determination

Pursuant to section 751(b)(1) of the Act and 19 CFR 351.216(d), when Commerce receives information concerning, or a request from an interested party for a review of, an order which shows changed circumstances sufficient to warrant a review of such order after publishing notice of the review in the Federal Register, Commerce shall conduct a review of the determination based on those changed circumstances. While successor-in-interest determinations are often made in the context of distinct changed circumstance reviews (CCRs) to consider the applicability of cash deposit rates after there have been changes in the name or the structure of a respondent, such as a merger or spinoff (successor-in-interest, or successorship, determinations), Commerce has also made successor-in-interest determinations in the context of administrative reviews and investigations.⁶

⁶ See, e.g., Certain Frozen Warmwater Shrimp from the People's Republic of China: Final Results of Antidumping Duty Administrative Review and Final Determination of No Shipments; 2018-2019, 85 FR 83891 (December 23, 2020), and accompanying IDM at Comment 3.

In this review, TA 2000 identified that it was formerly named Talleres y Aceros S.A. de C.V. (Talleres y Aceros) and made a legal name change through a merger in which TA 2000 S.A. de C.V. became the revised name of the legal entity and provided information necessary to evaluate the statements in support of the successorship claim within the context of Commerce's established criteria.⁷ In the Preliminary Results, Commerce found that, based on the totality of the circumstances and in the absence of any contradictory information on the record, TA 2000 is the successor-in-interest to Talleres y Aceros, as the change in the company's name was not accompanied by significant changes to its management and operations, production facilities, supplier relationships, and/or customer base.⁸ Thus, we preliminarily concluded that TA 2000 operates as essentially the same business entity as Talleres y Aceros, that TA 2000 is the successor-in-interest to Talleres y Aceros, and that TA 2000 should receive the same antidumping duty (AD) cash deposit rate and customs number as its predecessor, with respect to subject merchandise.⁹

⁷ See TA 2000's Letter, “Supplemental Response,” dated July 17, 2024.

⁸ See Preliminary Results, 89 FR at 89953, and accompanying PDM at 6.

⁹ Id.

No party commented on this determination, and Commerce received no subsequent information or argument to compel reconsideration thereof; therefore, we continue to find TA 2000 to be the successor-in-interest to Talleres y Aceros, and that TA 2000 should receive the same AD cash deposit rate and customs number as its predecessor.

Scope of the Order ¹⁰

¹⁰ See Notice of Antidumping Duty Orders: Carbon and Certain Alloy Steel Wire Rod from Brazil, Indonesia, Mexico, Moldova, Trinidad and Tobago, and Ukraine, 67 FR 65945 (October 29, 2002) (Order).

The merchandise subject to the Order is certain hot-rolled products of carbon steel and alloy steel, in coils, of approximately round cross section, 5.00 mm or more, but less than 19.00 mm, in solid cross-sectional diameter.

For the full text of the scope of the Order, see the Issues and Decision Memorandum.

Analysis of the Comments Received

All issues raised in the case and rebuttal briefs that were submitted by interested parties are addressed in the Issues and Decision Memorandum. A list of the issues which parties raised, and to which we respond in the Issues and Decision Memorandum, is attached in the appendix to this notice. The Issues and Decision Memorandum is a public document and is on file electronically via Enforcement and Compliance's Antidumping and Countervailing Duty Centralized Electronic System (ACCESS). ACCESS is available to registered users at https://access.trade.gov. In addition, the Issues and Decision Memorandum can be accessed directly at https://access.trade.gov/public/FRNoticesListLayout.aspx.

Changes Since the Preliminary Results

Based on a review of the record and analysis of the comments received from interested parties regarding our Preliminary Results, we made changes to the preliminary weighted-average dumping margins calculated for Deacero. For detailed information, see the Issues and Decision Memorandum.

Final Results of Review

Commerce determines the following estimated weighted-average dumping margins exist for the period October 1, 2022, through September 30, 2023:

Exporter/producer | Weighted- average dumping margin (percent)
Deacero S.A.P.I. de C.V | 13.45
TA 2000 S.A. de C.V | 18.09

Disclosure

We intend to disclose to interested parties the calculations and analysis performed for these final results within five days of the date of the publication of this notice in the Federal Register, in accordance with 19 CFR 351.224(b).

Assessment Rates

Pursuant to section 751(a)(2)(A) of the Act and 19 CFR 351.212(b)(1), Commerce will determine, and U.S. Customs and Border Protection (CBP) shall assess, antidumping duties on all appropriate entries of subject merchandise in accordance with the final results of this review. Pursuant to 19 CFR 351.212(b)(1), we calculated importer-specific ad valorem duty assessment rates based on the ratio of the total amount of dumping calculated for the examined sales to the total entered value of those sales. Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either the respondent's weighted-average dumping margin is zero or de minimis within the meaning of 19 CFR 351.106(c)(1), or an importer-specific assessment rate is zero or de minimis, we will instruct CBP to liquidate the appropriate entries without regard to antidumping duties.¹¹

¹¹ In these final results, Commerce applied the assessment rate calculation method adopted in Antidumping Proceedings: Calculation of the Weighted-Average Dumping Margin and Assessment Rate in Certain Antidumping Duty Proceedings; Final Modification, 77 FR 8101 (February 14, 2012).

For entries of subject merchandise during the POR produced by Deacero or TA 2000 for which they did not know their merchandise they sold to an intermediary (e.g., a reseller, trading company, or exporter) was destined for the United States, we will instruct CBP to liquidate unreviewed entries at the all-others rate if there is no rate for the intermediate company(ies) involved in the transaction. The final results of this review shall be the basis for the assessment of antidumping duties on entries of merchandise covered by the final results of this review and for future deposits of estimated duties, where applicable.¹²

¹² See section 751(a)(2)(C) of the Act.

Commerce intends to issue assessment instructions to CBP no earlier than 41 days after the date of publication of the final results of this review in the Federal Register in accordance with 19 CFR 356.8(a).

Cash Deposit Requirements

The following cash deposit requirements will be effective for all shipments of subject merchandise entered, or withdrawn from warehouse, for consumption on or after the publication date of the final results of this administrative review, as provided by section 751(a)(2)(C) of the Act: (1) the cash deposit rate for the companies listed above will be equal to the weighted-average dumping margins established in the final results of this administrative review; (2) for merchandise exported by producers or exporters not covered in this review but covered in a prior completed segment of the proceeding, the cash deposit rate will continue to be the company-specific rate published for the most recent period; (3) if the exporter is not a firm covered in this review, a prior review, or the original investigation, but the producer has been covered in a prior complete segment of this proceeding, then the cash deposit rate will be the rate established for the most recent period for the producer of the merchandise; (4) the cash deposit rate for all other manufacturers or exporters will continue to be 20.11 percent.¹³ These cash deposit requirements, when imposed, shall remain in effect until further notice.

¹³ See Order, 67 FR at 65947.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice also serves as a reminder to parties subject to an APO of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results of administrative review in accordance with sections 751(a)(1) and 777(i)(1) of the Act, and 19 CFR 351.221(b)(5).

Dated: July 29, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issues

Comment 1: Whether to Revise the Draft Liquidation Instructions

Comment 2: Whether to Revise the Preliminary Calculation of Deacero's Margin

VI. Recommendation

[FR Doc. 2025-14715 Filed 8-1-25; 8:45 am]

BILLING CODE 3510-DS-P